DEPARTMENT OF ENERGY

[Docket Nos. 11-59-LNG, 16-110-LNG]

Change in Control; Lake Charles Exports, LLC

AGENCY: Office of Fossil Energy and Carbon Management, Department of Energy.

ACTION: Notice of change in control.

SUMMARY: The Office of Fossil Energy and Carbon Management (FECM) (formerly the Office of Fossil Energy) of the Department of Energy (DOE) gives notice of receipt of a Notice of Change in Control (Notice) filed by Lake Charles Exports, LLC (LCE) on May 17, 2022. The Notice describes a change in LCE's upstream ownership. The Notice was filed under the Natural Gas Act (NGA).

DATES: Protests, motions to intervene, or notices of intervention, as applicable, and written comments are to be filed electronically as detailed in the Public Comment Procedures section no later than 4:30 p.m., Eastern time, July 6, 2022.

ADDRESSES:

Electronic Filing by email: fergas@hq.doe.gov.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact Office of Resource Sustainability staff at (202) 586-4749 or (202) 586-7893 to discuss the need for alternative arrangements. Once the Covid-19 pandemic health emergency is resolved, DOE anticipates resuming all of its regular options for public comment submission, including postal mail and hand delivery/courier.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION:

Summary of Change in Control

In the Notice, LCE states that, by means of a transaction (Transaction) that closed on April 1, 2020, its ownership has changed. LCE states that, prior to the Transaction, LCE was a joint venture between Energy Transfer Equity, L.P. (Energy Transfer) and Royal Dutch Shell plc (Shell). LCE states that, on April 1, 2020, Energy Transfer acquired Shell's membership interests in LCE. Accordingly, LCE is now a wholly owned subsidiary of Energy Transfer.

Additional details can be found in the Notice, posted on the DOE website at: www.energy.gov/sites/default/files/2022-06/Notice%20of%20change%20in%20control%20Lake%20Charles%20Exports%20LLC.pdf.

DOE Evaluation

DOE will review the Notice in accordance with its Procedures for Changes in Control Affecting Applications and Authorizations to Import or Export Natural Gas (CIC Procedures).¹ Consistent with the CIC Procedures, this notice addresses LCE's existing authorizations to export LNG to non-free trade agreement (non-FTA) countries, as identified in the Notice.² If no interested person protests the change in control and DOE takes no action on its own motion, the proposed change in control will be deemed granted 30 days after publication in the Federal Register. If one or more protests are submitted, DOE will review any motions to intervene, protests, and answers, and will issue a determination as to whether the proposed change in control has been demonstrated to render the underlying authorizations inconsistent with the public interest.

¹ 79 FR 65541 (Nov. 5, 2014).

² LCE's Notice also applies to its existing authorizations to export LNG to FTA countries, but DOE will respond to that portion of the filing separately pursuant to the CIC Procedures, 79 FR 65542.

Public Comment Procedures

Interested persons will be provided 15 days from the date of publication of this notice in the Federal Register to move to intervene, protest, and answer the Notice.³ Protests, motions to intervene, notices of intervention, and written comments are invited in response to this notice only as to the change in control described in the Notice. All protests, comments, motions to intervene, or notices of intervention must meet the requirements specified by DOE's regulations in 10 CFR part 590, including the service requirements.

³ Intervention, if granted, would constitute intervention only in the change in control portion of these proceedings, as described herein.

As noted, DOE is only accepting electronic submissions at this time. Please email the filing to fergas@hq.doe.gov. All filings must include a reference to “Docket Nos. 11-59-LNG, et al.” in the title line, or “Lake Charles Exports, LLC Change in Control” in the title line.

Please Note: Please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Notice, and any filed protests, motions to intervene, notices of intervention, and comments will be available electronically by going to the following DOE Web address: www.energy.gov/fecm/regulation.

Signed in Washington, DC, on June 14, 2022.
Amy R. Sweeney,
Director, Office of Regulation, Analysis, and Engagement, Office of Resource Sustainability.

[FR Doc. 2022-13192 Filed 6-17-22; 8:45 am]

BILLING CODE 6450-01-P